DEPARTMENT OF JUSTICE

Antitrust Division

Notice Pursuant to the National Cooperative Research and Production Act of 1993—VSI Alliance

Notice is hereby given that, on October 12, 2001, pursuant to section 6(a) of the National Cooperative Research and Production Act of 1993, 15 U.S.C. 4301 et seq. (“the Act”), VSI Alliance has filed written notifications simultaneously with the Attorney General and the Federal Trade Commission disclosing changes in its membership status. The notifications were filed for the purpose of extending the Act's provisions limiting the recovery of antitrust plaintiffs to actual damages under specified circumstances. Specifically, Cogency Semiconductor, Toronto, Ontario, Canada; Elixent Limited, Bristol, Avon, England, United Kingdom; FZI—Forschungszentrum Informatik an der Universitat, Karlshruhe, Germany; HGS Engineering, Inc., Sunnyvale, CA; Sammy Makar (individual member), Fremont, CA; Monterey Design Systems, Sunnyvale, CA; Semifore Technologies, Irvine, CA; SIPAC, Toejon, Republic of Korea; and Vector 12 Corporation, Richmond, British Columbia, Canada have been added as parties to this venture. Also, Aristo Technology, Cupertino, CA; Element 14, Inc., Cambridge, England, United Kingdom; EnThink, Inc., Santa Clara, CA; Fincitec Oy, Oulu, Finland; Schlumberger Technologies, Inc., San Jose, CA; Simutech, San Jose, CA; and Universite Pierre et Marie Curie (UPMC), Paris, France have been dropped as parties to this venture.

No other changes have been made in either the membership or planned activity of the group research project. Membership in this group research project remains open, and VSI Alliance intends to file additional written notification disclosing all changes in membership.

On November 29, 1996, VSI Alliance filed its original notification pursuant to section 6(a) of the Act. The Department of Justice published a notice in the Federal Register pursuant to Section 6(b) of the Act on March 4, 1997 (62 FR 9812).

The last notification was filed with the Department on July 5, 2001. A notice was published in the Federal Register pursuant to section 6(b) of the Act on July 30, 2001 (66 FR 39337).

Constance K. Robinson,
Director of Operations, Antitrust Division.

[FR Doc. 01-30165 Filed 12-4-01; 8:45 am]

BILLING CODE 4410-11-M